DEPARTMENT OF ENERGY

Federal Energy Regulatory Commission

[Project No. 2574-032 Maine]

Merimil Limited Partnership; Notice of Availability of Draft Environmental Assessment

October 3, 2003.

In accordance with the National Environmental Policy Act of 1969 (NEPA) and the Federal Energy Regulatory Commission's (Commission) regulations, 18 CFR part 380 (Order No. 486, 52 FR 47897), the Office of Energy Projects has reviewed the application for license for the Lockwood Hydroelectric Project, located on the Kennebec River in Kennebec County, Maine, and prepared a draft environmental assessment (DEA). The DEA contains staff's analysis of the environmental effects of the proposal and concludes that licensing the project, with additional staff recommended measures, would not constitute a major federal action significantly affecting the human environment.

A copy of the DEA is available for review at the Commission in the Public Reference Room, or it may be viewed on the Commission's Web site at http://www.ferc.gov using the “eLibrary” link. Enter the docket number, excluding the last three digits in the docket number field, to access the document. For assistance, please contact FERC Online Support at FERCOnlineSupport@ferc.gov or toll-free at (866) 208-3676, or for TTY, contact (202) 502-8659.

Please file any comments (an original and 8 copies) within 45 days from the date of this letter. The comments should be addressed to Magalie R. Salas, Secretary, Federal Energy Regulatory Commission, 888 First Street, NE., Washington, DC 20426. Please affix the Project No. 2574-032 to all comments. Comments may be filed electronically via the Internet in lieu of paper (see 18 CFR 385.2001(a)(1)(iii), and the instructions on the Commission(s Web site at www.ferc.gov under the “e-filing” link). The Commission strongly encourages electronic filings.

Magalie R. Salas,
Secretary.

[FR Doc. E3-00038 Filed 10-14-03; 8:45 am]

BILLING CODE 6717-01-P